NUCLEAR REGULATORY COMMISSION

[Docket No. 50-244]

Rochester Gas and Electric Corporation; Notice of Withdrawal of Application for Amendment to Facility Operating License

The U.S. Nuclear Regulatory Commission (the Commission) has granted the request of Rochester Gas and Electric Corporation (the licensee) to withdraw its March 18, 2002, application for proposed amendment to Facility Operating License No. DRP-18 for the R.E. Ginna Nuclear Power Plant, located in Wayne County, New York.

The proposed amendment would have revised the Technical Specifications to remove the administrative requirement that a candidate for the plant operations manager position hold a Senior Reactor Operator License at the time of appointment.

The Commission had previously issued a Notice of Consideration of Issuance of Amendment published in the Federal Register on April 30, 2002 (67 FR 21292). However, by letter dated June 12, 2002, the licensee withdrew the proposed change.

For further details with respect to this action, see the application for amendment dated March 18, 2002, and the licensee's letter dated June 12, 2002, which withdrew the application for license amendment. Documents may be examined, and/or copied for a fee, at the NRC's Public Document Room (PDR), located at One White Flint North, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated at Rockville, Maryland, this 17th day of July 2002.
For the Nuclear Regulatory Commission.
Robert Clark,
Project Manager, Section 1, Project Directorate I, Division of Licensing Project Management, Office of Nuclear Reactor Regulation.

[FR Doc. 02-18748 Filed 7-23-02; 8:45 am]

BILLING CODE 7590-01-P